DEPARTMENT OF COMMERCE

International Trade Administration

(A-549-502)

Circular Welded Carbon Steel Pipes and Tubes from Thailand: Extension of Time Limit for Preliminary Results of New Shipper Antidumping Duty Review

AGENCY: Import Administration, International Trade Administration, Department of Commerce.

EFFECTIVE DATE: March 27, 2009.

FOR FURTHER INFORMATION CONTACT: Myrna Lobo or Jacqueline Arrowsmith, AD/CVD Operations, Office 6, Import Administration, International Trade Administration, U.S. Department of Commerce, 14th Street and Constitution Avenue, NW, Washington DC 20230; telephone: (202) 482-2371 and (202) 482-5255, respectively.

SUPPLEMENTARY INFORMATION:

Background

On October 28, 2008, the Department of Commerce (the Department) initiated the new shipper review of the antidumping duty order on circular welded carbon steel pipes and tubes from Thailand for the period March 1, 2008 through September 30, 2008. See Circular Welded Carbon Steel Pipes and Tubes from Thailand: Initiation of New Shipper Antidumping Duty Review, 73 FR 65290 (November 3, 2008). The preliminary results of this administrative review are currently due no later than April 26, 2009.

Extension of Time Limit for Preliminary Results

Pursuant to section 751(a)(2)(B) of the Tariff Act of 1930, as amended (the Act), and 19 CFR 351.214(i)(1), the Department shall issue preliminary results in a new shipper review of an antidumping duty order within 180 days of after the date on which the new shipper review was initiated. The Act further provides, however, that the Department may extend that 180-day period to 300 days if it is extraordinarily complicated. See 751(a)(2)(B) and 19 CFR 351.214(i)(2).

In this new shipper review, the Department needs to analyze whether the sales under review are bona fide sales. In addition, the Department needs additional time to fully analyze the supplemental questionnaire responses due from respondent and to conduct a sales verification of the questionnaire response. Therefore, in accordance with section 751(a)(2)(B) of the Act, the Department has decided to extend the time limit for the preliminary results to 300 days to August 24, 2009. Unless extended, the final results continue to be due 90 days after the publication of the preliminary results, pursuant to section 751(a)(2)(B) of the Act and section 351.214(i)(1) of the Department's regulations.

This notice is issued and published in accordance with sections 751(a)(1) and 777(i)(1) of the Act.

Dated: March 19, 2009.
John M. Andersen,
Acting Deputy Assistant Secretary for Antidumping and Countervailing Duty Operations.

[FR Doc. E9-6897 Filed 3-26-09; 8:45 am]

BILLING CODE 3510-DS-S